DEPARTMENT OF DEFENSE

Office of the Secretary

[Docket ID DoD-2013-OS-0056]

Privacy Act of 1974; System of Records

AGENCY: Defense Logistics Agency, DoD.

ACTION: Notice to amend a System of Records.

SUMMARY: The Defense Logistics Agency is amending a system of records notice in its existing inventory of record systems subject to the Privacy Act of 1974 (5 U.S.C. 552a), as amended.

DATES: This proposed action will be effective on April 22, 2013 unless comments are received which result in a contrary determination. Comments will be accepted on or before April 22, 2013.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Jody Sinkler, DLA FOIA/Privacy Act Office, Headquarters, Defense Logistics Agency, ATTN: DGA, 8725 John J. Kingman Road, Suite 1644, Fort Belvoir, VA 22060-6221, or by phone at (703) 767-5045.

SUPPLEMENTARY INFORMATION: The Defense Logistics Agency systems of records notices subject to the Privacy Act of 1974 (5 U.S.C. 552a), as amended, have been published in the Federal Register and are available from the address in FOR FURTHER INFORMATION CONTACT.

The proposed changes to the record system being amended are set forth below. The proposed amendment is not within the purview of subsection (r) of the Privacy Act of 1974 (5 U.S.C. 552a), as amended, which requires the submission of a new or altered system report.

Dated: March 18, 2013.
Aaron Siegel,
Alternate OSD Federal Register Liaison Officer, Department of Defense.

S310.07

System name:

Military Personnel System (March 4, 2011, 76 FR 12078).

Changes:

* * * * *

System name:

Delete entry and replace with “Military On-Line Personnel System.”

System location:

Delete entry and replace with “Defense Logistics Agency (DLA), Director, Human Resources Services—Military Personnel and Administration (DHRS-M), 8725 John J. Kingman Road, Suite 3516, Fort Belvoir, VA 22060-6221, and in the Personnel Technician Office within each DLA Primary Level Field Activity (PLFA). Mailing addresses may be obtained from the system manager identified in this notice.”

* * * * *

Safeguards:

Add “annually” to end of entry.

* * * * *

System manager(s) and address:

Delete entry and replace with “Director, Human Resources Services—Military Personnel and Administration (DHRS-M), Defense Logistics Agency Headquarters, 8725 John J. Kingman Road, Suite 3516, Fort Belvoir, VA 22060-6221, and the Heads of the DLA Primary Level Field Activities. Mailing addresses are published as an appendix to DLA's compilation of systems of records notices.”

* * * * *

[FR Doc. 2013-06540 Filed 3-20-13; 8:45 am]

BILLING CODE 5001-06-P